DEPARTMENT OF LABOR

Employment and Training Administration

[TA-W-53,147 and TA-W-53,147A]

Eagle Picher, Inc., Hillsdale, MI; Eagle Picher, Inc., Jonesville, MI; Amended Certification Regarding Eligibility to Apply for Worker Adjustment Assistance and Alternative Trade Adjustment Assistance

In accordance with section 223 of the Trade Act of 1974 (19 U.S.C. 2273), and under section 246 of the Trade Act of 1974, as amended, the Department of Labor issued a Certification of Eligibility to Apply for Worker Adjustment Assistance and Alternative Trade Adjustment Assistance on November 21, 2003, applicable to workers of Eagle Picher, Inc., located in Hillsdale, Michigan. The notice was published in the Federal Register on December 29, 2003 (68 FR 74978).

On January 6, 2004, the Department amended the certification to include workers at the Jonesville, Michigan location of Eagle Picher, Inc. The notice of amendment was published in the Federal Register on January 28, 2004 (69 FR 4178).

At the request of the State Agency, the Department reviewed the certification for workers of the subject firm. The amendment failed to cite the eligibility for workers of Picher, Inc., in both Hillsdale and Jonesville, Michigan, to apply for transitional adjustment assistance.

The Department is again amending the certification to include eligibility for workers of the subject firm to apply for ATAA.

The amended notice applicable to TA-W-53,147 is hereby issued as follows:

All workers of Eagle Picher, Inc., Hillsdale, Michigan (TA-W-53,147), and Eagle Picher, Inc., Jonesville, Michigan (TA-W-53,147A), who became totally or partially separated from employment on or after September 26, 2002, through November 21, 2005, are eligible to apply for adjustment assistance under section 223 of the Trade Act of 1974, and are also eligible to apply for alternative trade adjustment assistance under section 246 of the Trade Act of 1974, as amended.

Signed in Washington, DC, this 9th day of March, 2004.
Linda G. Poole,
Certifying Officer, Division of Trade Adjustment Assistance.

[FR Doc. 04-6546 Filed 3-23-04; 8:45 am]

BILLING CODE 4510-30-P